INTERNATIONAL TRADE COMMISSION

[Investigation No. 731-TA-1206 (Second Review)]

Diffusion-Annealed, Nickel-Plated Flat-Rolled Steel Products From Japan

Determination

On the basis of the record ¹ developed in the subject five-year review, the United States International Trade Commission (“Commission”) determines, pursuant to the Tariff Act of 1930 (“the Act”), that revocation of the antidumping duty order on diffusion-annealed, nickel-plated flat-rolled steel products from Japan would be likely to lead to continuation or recurrence of material injury to an industry in the United States within a reasonably foreseeable time.

¹ The record is defined in § 207.2(f) of the Commission's Rules of Practice and Procedure (19 CFR 207.2(f)).

Background

The Commission instituted this review on September 3, 2024 (89 FR 71424, September 3, 2024) and determined on December 9, 2024, that it would conduct an expedited review (89 FR 107163, December 31, 2024).

The Commission made this determination pursuant to section 751(c) of the Act (19 U.S.C. 1675(c)). It completed and filed its determination in this review on March 25, 2025. The views of the Commission are contained in USITC Publication 5601 (March 2025), entitled Diffusion-Annealed, Nickel-Plated Flat-Rolled Steel Products from China: Investigation No. 731-TA-1206 (Second Review).

By order of the Commission.
Issued: March 25, 2025.
Lisa Barton,
Secretary to the Commission.

[FR Doc. 2025-05419 Filed 3-28-25; 8:45 am]

BILLING CODE 7020-02-P